DEPARTMENT OF THE INTERIOR

Bureau of Land Management

[CO 800-04-1610-DO-241A]

Notice of Intent to Prepare a Joint Environmental Impact Statement (EIS) and Associated Resource Management Plan (RMP) Land and Resource Management Plan (LRMP) for the San Juan Public Lands Center

AGENCY: Bureau of Land Management, Interior and Forest Service, USDA.

ACTION: Notice of intent.

SUMMARY: This document provides notice that the Bureau of Land Management (BLM) and the USDA Forest Service (USFS) intend to prepare a joint EIS with associated RMP and LRMP for the federal lands under the jurisdiction of the San Juan Public Lands Center. This notice initiates the public scoping process for BLM, the USPS will issue a NOI at a later date. The plan will fulfill the needs and obligations set forth by the Federal Land Policy and Management Act (FLPMA), National Forest Management Act (NFMA), National Environmental Policy Act (NEPA), and BLM/USFS management policies. The BLM/USFS will work collaboratively with interested parties to identify the management decisions that are best suited to local, regional, and national needs and concerns. This public process will identify planning issues and develop planning criteria, including an evaluation of the existing management plans in the context of the needs and interests of the public.

DATES: The formal scoping comment period will commence with the publication of this notice and end when the Forest Service scoping ends, but not less than 30 days from the publication of this notice. Comments on issues, alternatives and preliminary planning criteria should be received on or before the end of the scoping period and can be submitted through the planning Web site or in writing to the address listed below. During this scoping period, open houses will be held in Cortez, Durango and Pagosa Springs, Colorado, where BLM and FS personnel will be available to respond to questions and provide other information pertaining to the preparation of the documents. There will be subsequent public review periods and open houses where additional public comment will be requested, including a formal comment period on the Draft management plan/EIS. Formal public meetings, if needed, will be announced through the local news media, newsletters, and the BLM/USFS Web site http://www.fs.fed.us/r2/sanjuan at least 15 days prior to the event. The minutes and list of attendees for each meeting will be available to the public and open for 30 days to any participant who wishes to clarify the views they expressed.

ADDRESSES: Written comments should be sent to the Plan Revision Team, San Juan Public Lands Center, 15 Burnett Ct., Durango, CO 81301; (970) 247-1847 Fax (970) 375-2331. Documents pertinent to this proposal may be examined at the San Juan Public Lands Center. Comments, including names and street addresses of respondents, will be available for public review at the San Juan Public Lands Center during regular business hours 8 a.m. to 4:30 p.m. Monday through Friday, except holidays, and may be published as part of the EIS. Individual respondents may request confidentiality. If you wish to withhold your name or street address from public review or from disclosure under the Freedom of Information Act, you must state this prominently at the beginning of your written comments. We will not however, consider anonymous comments. Such requests will be honored to the extent allowed by law. All comments submitted from organizations and businesses, and from individuals identifying themselves as representatives or officials of organizations or businesses, will be available for public inspection in their entirety.

FOR FURTHER INFORMATION CONTACT: For further information contact David Baker, telephone (970) 385-1240; e-mail djbaker@fs.fed.us. or to have your name added to our mailing list, contact Laura Stansky, telephone (970) 385-1216; e-mail lstransky@fs.fed.us.

SUPPLEMENTARY INFORMATION: The San Juan Field Office and San Juan National Forest are pioneering a concept known as Service First. Service First is a partnership strategy to provide better customer service and be more cost effective in the delivery of those services to users of the public lands in sothwest Colorado. Local units have the opportunity to streamline multiple processes and regulations, combine management of adjacent BLM and National Forest public lands, and offer one-stop shopping and a single point of contact for all customer—commercial users, partners and visitors. The project has merged the San Juan National Forest, the BLM San Juan Field Office, the Anasazi Heritage Center, and the newly created Canyons of the Ancients National Monument under the management of the San Juan Public Lands Center in Durango with Field Office/Ranger Districts in Pagosa Springs, Durango, Bayfield and Dolores Colorado.

Land and resource management plans for this area are currently in need of revision to address changing situations. The proposal is to jointly revise these management plans while still recognizing the need for separate decision documents covering Bureau of Land Management and National Forest System Lands. A separate, stand alone Resource Management Plan is currently being developed for the Canyons of the Ancients National Monument and that area will not be considered in this joint planning effort. Trust management of mineral resources for the Southern Ute and Ute Mountain Tribes will also be excluded.

Management of this area is currently guided by plans located in the San Juan Public Land Center. This Planning effort will revise the existing Resource Management Plan Land and Resource Management Plan. One EIS will be prepared but separate Records of Decision will be done because the two agencies have different approving officials and appeal processes.

• The BLM plan is called the San Juan/San Miguel Resource Management Plan (RMP) and was completed in 1985 and has been amended four times. This Plan will only revise the San Juan portion of the RMP at this time. The Uncompahgre Field Office will revise the San Miguel portion of the RMP later. Several activity level management plans have been written under this plan.

• The USFS plan is called the Land and Resource Management Plan for the San Juan National Forest and was completed in 1983 and has been amended twenty times.

Planning criteria are the standards, rules, and other factors used in formulating judgment about data collection, analysis and decision making associated with preparation of the San Juan Plan Revision. These criteria establish parameters and help focus preparation of the effort. Public comments are also welcome on the following preliminary planning criteria, which will be utilized in preparation of the San Juan Plan Revision.

A. The San Juan Plan Revision will be completed in compliance with the Federal Land Policy and Management Act, Multiple Use and Sustained Yield Act of 1960, the Forest and Rangeland Renewable Resources Planning Act of 1974 as amended by the National Forest Management Act of 1976 and all other applicable laws.

B. The project team will work cooperatively with the State of Colorado, tribal governments, county and municipal governments, other Federal agencies, and individuals. Public participation will be encouraged throughout the process.

C. Completion of the San Juan Plan Revision will include preparation of an EIS that will comply with the national Environmental Policy Act.

D. The lifestyles and concerns of area residents, including the activities of grazing, protection of traditional uses, recreational use, off-highway vehicle use, and wilderness characteristics will be addressed in the San Juan Plan Revision.

E. Decisions in the San Juan Plan Revision will strive to be compatible with existing plans and policies of adjacent local, State and Federal agencies.

Preliminary issues and management concerns have been identified by BLM and Forest Service personnel, other agencies, and in meetings with individuals and user groups. They represent the agencies knowledge to date on the existing issues and concerns with current management. Preliminary issues identified by the BLM and FS for the plan effort include: Management and protection of public land resources; fuel reduction and fire management; implementation of the National Energy Policy; designation of Areas of Critical Environmental Concern; recreation/visitor use and safety; access and transportation on the public lands; integrating management with community, tribal, and other agency needs; and balancing multiple uses. Public involvement gained through the initial scoping period will be utilized to refine these topics and identify additional issues to be evaluated.

The planning area is located in Archuleta, Conejos, Dolores, Hinsdale, La Plata, Mineral, Montezuma, Ouray, Rio Grande, San Juan, and San Miguel Counties; Colorado. This planning activity encompasses approximately 500,000 acres of public land under the jurisdiction of the Secretary of Interior and 1,870,000 acres under the jurisdiction of the Secretary of Agriculture.

Community based study groups will be formed to gather information on specific resource issues; these study groups will be open to the public, as will the meeting notes. Public meetings will be held throughout the plan scoping and preparation period. In order to ensure local community participation and input, public meeting locations will be rotated among the towns of Bayfield, Cortez, Dolores, Durango Pagosa Springs, Silverton, and Telluride. Early participation is encouraged and will help determine the future management of the San Juan Public Lands. In addition to the ongoing public participation process, formal opportunities for public participation will be provided through comment on the alternatives and upon publication of the draft RMP/EIS.

An interdisciplinary approach will be used to develop the plan in order to consider the variety of resource issues and concerns identified. Disciplines involved in the planning process will include specialists with expertise in: rangeland management, minerals and geology, forestry, outdoor recreation, engineering, ecology, archaeology, paleontology, wildlife and fisheries, lands and realty, hydrology, soils, sociology, economics, fuels and fire.

Mark W. Stiles,
Forest Supervisor/Center Manager, San Juan Public Land Center.

[FR Doc. 04-27299 Filed 12-13-04; 8:45 am]

BILLING CODE 4310-32-M